DEPARTMENT OF DEFENSE

48 CFR Parts 208, 210, 219, and 252

[DFARS Case 2004-D005]

Defense Federal Acquisition Regulation Supplement; Federal Prison Industries—Deletion of Duplicative Text

AGENCY: Department of Defense (DoD).

ACTION: Final rule.

SUMMARY: DoD has issued a final rule amending the Defense Federal Acquisition Regulation Supplement (DFARS) to delete text on purchase of products from Federal Prison Industries (FPI). The DFARS text is no longer necessary as a result of Governmentwide policy on this subject that was added to the Federal Acquisition Regulation (FAR) on March 26, 2004.

DATES: Effective November 1, 2004.

FOR FURTHER INFORMATION CONTACT: Ms. Michele Peterson, Defense Acquisition Regulations Council, OUSD(AT&L)DPAP(DAR), IMD 3C132, 3062 Defense Pentagon, Washington, DC 20301-3062. Telephone (703) 602-0311; facsimile (703) 602-0350. Please cite DFARS Case 2004-D005.

SUPPLEMENTARY INFORMATION:

A. Background

DoD published DFARS policy at 67 FR 20687 on April 26, 2002, and 68 FR 64559 on November 14, 2003, to implement 10 U.S.C. 2410n, which contains requirements for (1) conducting market research before purchasing an FPI product; (2) use of competitive procedures if an FPI product is found to be noncomparable to products available from the private sector; (3) limiting an inmate worker's access to information; and (4) prohibiting mandatory use of FPI as a subcontractor.

Section 637 of Division F of the Consolidated Appropriations Act, 2004 (Pub. L. 108-199), required the issuance of Governmentwide regulations that impose the procedures, standards, and limitations of 10 U.S.C. 2410n. Section 637 was implemented through publication of FAR policy in Federal Acquisition Circular 2001-21, at 69 FR 16148, on March 26, 2004. Since the FAR policy implementing 10 U.S.C. 2410n makes the DFARS policy unnecessary, this final rule removes the DFARS policy that was published at 67 FR 20687 on April 26, 2002, and 68 FR 64559 on November 14, 2003.

This rule was not subject to Office of Management and Budget review under Executive Order 12866, dated September 30, 1993.

B. Regulatory Flexibility Act

This rule will not have a significant cost or administrative impact on contractors or offerors, or a significant effect beyond the internal operating procedures of DoD. Therefore, publication for public comment is not required. However, DoD will consider comments from small entities concerning the affected DFARS subparts in accordance with 5 U.S.C. 610. Such comments should cite DFARS Case 2004-D005.

C. Paperwork Reduction Act

The Paperwork Reduction Act does not apply because the rule does not impose any information collection requirements that require the approval of the Office of Management and Budget under 44 U.S.C. 3501, et seq.

List of Subjects in 48 CFR Parts 208, 210, 219, and 252

Government procurement.

Michele P. Peterson,
Executive Editor, Defense Acquisition Regulations Council.

Therefore, 48 CFR parts 208, 210, 219, and 252 are amended as follows:

1. The authority citation for 48 CFR parts 208, 210, 219, and 252 continues to read as follows:

Authority: 41 U.S.C. 421 and 48 CFR Chapter 1.

PART 208—REQUIRED SOURCES OF SUPPLIES AND SERVICES

Subpart 208.6—[Removed]

2. Subpart 208.6 is removed.

PART 210—[REMOVED]

3. Part 210 is removed.

PART 219—SMALL BUSINESS PROGRAMS

219.502-70 [Removed]

4. Section 219.502-70 is removed.

219.508 [Removed]

5. Section 219.508 is removed.

PART 252—SOLICITATION PROVISIONS AND CONTRACT CLAUSES

252.219-7005 and 252.219-7006 [Removed and Reserved]

6. Sections 252.219-7005 and 252.219-7006 are removed and reserved.

[FR Doc. 04-24283 Filed 10-29-04; 8:45 am]

BILLING CODE 5001-08-P